DEPARTMENT OF JUSTICE

Immigration and Naturalization Service

[INS No. 2226-02; AG Order No. 2611-2002]

RIN 1115-AE26

Extension of the Designation of Sudan Under the Temporary Protected Status Program

AGENCY: Immigration and Naturalization Service, Justice.

ACTION: Notice.

SUMMARY: The designation of Sudan under the Temporary Protected Status (TPS) program will expire on November 2, 2002. This notice extends the Attorney General's designation of Sudan under the TPS program for 12 months until November 2, 2003, and sets forth procedures necessary for nationals of Sudan (or aliens having no nationality who last habitually resided in Sudan) with TPS to re-register for the additional 12-month period. Eligible nationals of Sudan (or aliens having no nationality who last habitually resided in Sudan) may re-register for TPS and an extension of employment authorization. Re-registration is limited to persons who registered during the initial registration period, which ended on November 3, 1998, registered during the re-designation registration period, which ended on November 2, 2000, or registered after that date under the late initial registration provisions; and who timely re-registered under each subsequent extension. Nationals of Sudan (or aliens having no nationality who last habitually resided in Sudan) who previously have not applied for TPS may be eligible to apply under the late initial registration provisions.

EFFECTIVE DATES: The extension of the TPS designation for Sudan is effective November 2, 2002, and will remain in effect until November 2, 2003. The 60-day re-registration period begins on August 30, 2002, and will remain in effect until October 29, 2002.

FOR FURTHER INFORMATION CONTACT: Pearl Chang, Residence and Status Services Branch, Adjudications, Immigration and Naturalization Service, Room 3214, 425 I Street NW., Washington, DC 20536, telephone (202) 514-4754.

SUPPLEMENTARY INFORMATION:

What authority does the Attorney General have to extend the designation of Sudan under the TPS program?

Section 244(b)(3)(A) of the Immigration and Nationality Act (Act) states that, at least 60 days before the end of a designation or extension thereof, the Attorney General must review conditions in the foreign state for which the designation is in effect. 8 U.S.C. 1254a(b)(3)(A). If the Attorney General does not determine that the foreign state no longer continues to meet the conditions for designation, the period of designation is extended automatically for 6 months pursuant to section 244(b)(3)(C) of the Act, although the Attorney General may exercise his discretion to extend the designation for a period of 12 to 18 months. 8 U.S.C. 1254a(b)(3)(C)

Why did the Attorney General decide to extend the TPS designation for Sudan?

On November 4, 1997, the Attorney General designated Sudan under the TPS program for a period of 12 months. 62 FR 59737. The Attorney General has since extended the TPS designation three times and redesignated Sudan once, after determining each time that the conditions warranting such designation continued to be met. See 66 FR 46031 (August 31, 2001) (extension); 65 FR 67407 (November 9, 2000) (extension); 64 FR 61128 (November 9, 1999) (extension and redesignation); and 63 FR 59337 (November 3, 1998) (extension).

Since the date of the last extension, the Departments of Justice and State have continued to review conditions in Sudan. The Department of State reports that “[c]ivil war continues to endanger thousands of Sudanese civilians. Despite cease-fire arrangements in the Nuba Mountains and periodically in Bahr el Ghazal, fighting between government and rebel forces has intensified in several regions, especially those rich in oil. The Western Upper Nile region is of particular concern. Peace negotiations recently began between the government and rebel leaders; however, past efforts have led to repeated failures. The government's human rights record remains extremely poor, and includes extrajudicial killings, disappearances, arbitrary arrest and detention, rape, slavery, forced labor, forced conscription of male children, and severely restricted freedom of assembly, association, religion, speech, and movement. Rebel groups also are responsible for serious human rights abuses, including extrajudicial killings, beatings, rapes, arbitrary detention, and forced conscription of boys.” State Department Report (July 1, 2002) (State Department Report). The Department of State concludes that “Sudan's civil war threatens civilians both directly, as they suffer violent attacks, abductions and forced displacement from both sides of the conflict, and indirectly, as looting and attacks on humanitarian operations endanger their food security and health.” Id.

Likewise, the Resource Information Center of the Immigration and Naturalization Service (INS/Service) recently reported that “[a]lthough a window of opportunity exists to end Sudan's long internal conflict, and [despite] efforts to broker confidence-building agreements between the government and the opposition Sudan People's Liberation Movement/Army (SPLM/A), no end to the war appears in sight. Intensified conflict, particularly in oil-producing areas of the south, has contributed to serious human rights violations and a worsening in the conditions of life for people living in these areas.” The INS Resource Information Center Report (July 3, 2002) (RIC Report). The United Nations Special Rapporteur on Human Rights in Sudan reported in January 2002 that “the overall human rights situation has not improved.” Report of Special Rapporteur, U.N. Commission on Human Rights (Jan. 23, 2002). The Sudanese Government has forcibly removed tens of thousands of southern Sudanese from oilfield areas to make the areas safe from attack, denied humanitarian agencies access to vulnerable people in rebel-held areas, and on many occasions bombed civilians waiting to receive humanitarian assistance. RIC Report. The United Nations Office for the Coordination of Humanitarian Affairs (OCHA) reported in November 2001 that the armed conflict “continues to create widespread displacement of civilian populations, destroy infrastructure, and obliterate assets such as livestock and crops. Agricultural and pastoral activities among farming communities are continually disrupted in the areas of conflict, including during the all-important planting and harvesting seasons. In these and other areas the vagaries of climate and weather impose further pressures trough drought and flood, giving rise to tension and conflict through competition for scarce resources of food, water, and pasture for livestock.” UN OCHA Report (Nov. 26, 2001).

Based on this review, the Attorney General finds that the conditions that prompted designation of Sudan under the TPS program continue to be met. 8 U.S.C. 1254a(b)(3)(A). There is an ongoing armed conflict within Sudan and, due to such conflict, requiring the return of aliens who are nationals of Sudan (or aliens having no nationality who last habitually resided in Sudan) would pose a serious threat to their personal safety. 8 U.S.C. 1254a(b)(3)(A). Furthermore, there exist extraordinary and temporary conditions in Sudan that prevent nationals of Sudan (and aliens having no nationality who last habitually resided in Sudan) from returning home in safety. 8 U.S.C. 1254a(b)(1)(C). Finally, permitting nationals of Sudan to remain temporarily in the United States is not contrary to the national interest of the United States. 8 U.S.C. 1254a(b)(1). On the basis of these findings, the Attorney General concludes that the TPS designation for Sudan should be extended for a period of 12 months.

If I currently have TPS through the Sudan TPS program, must I still re-register for TPS?

Yes. If you already have received TPS benefits through the Sudan TPS program, your benefits will expire on November 2, 2002. Accordingly, you must re-register for TPS in order to maintain your benefits through November 2, 2003. See the following re-registration instructions. The TPS benefits include temporary protection against removal from the United States, as well as work authorization, during the TPS designation period and any extension thereof. 8 U.S.C. 1254a(a)(1).

If I am currently registered for TPS, how do I re-register for an extension?

Persons previously granted TPS under the Sudan program may apply for an extension by filing (1) Form I-821, Application for Temporary Protected Status, without the fee; (2) Form I-765, Application for Employment Authorization; and (3) two identification photographs (1½ inches × 1½ inches). To determine whether you must submit the one hundred and twenty dollar ($120) filing fee with the Form I-765, see the chart below. Children beneficiaries of TPS, who have reached the age of 14 but were not previously fingerprinted, must pay the fifty dollar ($50) fingerprint fee upon their next application for extension.

Submit the re-registration package and applicable fee, if any, to the Service district office that has jurisdiction over your place of residence during the 60-day re-registration period that begins August 30, 2002, and will remain in effect until October 29, 2002.

If | Then
You are applying for an Employment Authorization Document that is valid through November 2, 2003 . . | You must complete and file Form I-765, Application for Employment Authorization, with the $120 fee.
You already have an Employment Authorization Document or do not require such a document. . | You must complete and file Form I-765, with no filing fee.
You are applying for an Employment Authorization Document and are requesting a fee waiver. . | You must complete and file: (1) Form I-765, with no fee and (2) a fee waiver request and affidavit (and any other information) in accordance with 8 CFR 244.20.

How Does an Application for TPS Affect my Application for Asylum or Other Immigration Benefits?

An application for TPS does not affect an application for asylum or any other immigration benefit. A national of Sudan (or alien having no nationality who last habitually resided in Sudan) who is otherwise eligible for TPS and has applied for, or plans to apply for, asylum but who has not yet been granted asylum or withholding of removal, may also apply for TPS. Denial of an application for asylum or any other immigration benefit does not affect an applicant's eligibility to apply for TPS, although the grounds for denying one form of relief may also be grounds for denying TPS. For example, a person who has been convicted of a particularly serious crime is not eligible for asylum or TPS. 8 U.S.C. 1158(b)(2); 8 U.S.C. 1254a(c)(2)(B)(i).

Does This Extension Allow Nationals of Sudan (or Aliens Having No Nationality Who Last Habitually Resided in Sudan) Who Entered the United States After November 9, 1999, To File for TPS:

No. This is a notice of an extension of the TPS designation for Sudan, not a notice of redesignation of Sudan under the TPS program. An extension of TPS does not change the required dates of continuous residence and continuous physical presence in the United States. This extension does not expand Sudan availability to those who are not already TPS class members. To be eligible for benefits under this extension, nationals of Sudan (or aliens having no nationality who last habitually resided in Sudan) must have been continuously physically present and continuously resided in the United States since November 9, 1999.

Is Late Initial Registration Possible?

Yes. Some persons may be eligible for late initial registration under 8 CFR 244.2(f)(2). To apply for late initial registration an applicant must:

(1) Be a national of Sudan (or an alien who has no nationality and who last habitually resided in Sudan);

(2) Have been continuously physically present in the United States since November 9, 1999;

(3) Have continuously resided in the United States since November 9, 1999; and

(4) Be both admissible as an immigrant, except as otherwise provided under section 244(c)(2)(A) of the Act, and also not ineligible under section 244(c)(2)(B) of the Act.

Additionally, the applicant must be able to demonstrate that, during the redesignation registration period from November 9, 1999, through November 2, 2000, he or she:

(1) Was a nonimmigrant or had been granted voluntary departure status or any relief from removal,

(2) Had an application for change of status, adjustment of status, asylum, voluntary departure, or any relief from removal or change of status pending or subject to further review or appeal,

(3) Was a parolee or had a pending request for reparole, or

(4) Was the spouse or child of an alien currently eligible to be a TPS registrant. 8 CFR 244.2(f)(2).

An applicant for late initial registration must file an application for late registration within a 60-day period immediately following the expiration of termination of the conditions described above. 8 CFR 244.2(g).

Notice of Extension of Designation of Sudan Under the TPS Program

By the authority vested in me as Attorney General under sections 244(b)(1), (b)(3)(A), and (b)(3)(C) of the Act, I have consulted with the appropriate government agencies and determine that the conditions that prompted designation of Sudan for TPS continue to be met. 8 U.S.C. 1254a(b)(3)(A). Accordingly, I order as follows:

(1) The designation of Sudan under section 244(b) of the Act is extended for an additional 12-month period from November 2, 2002, through November 2, 2003. 8 U.S.C. 1254a(b)(3)(C).

(2) I estimate that there are approximately 552 nationals of Sudan (or aliens who have no nationality and who last habitually resided in Sudan) who are eligible for re-registration.

(3) To maintain TPS, a national of Sudan (or an alien having no nationality who last habitually resided in Sudan) who previously has applied for or received TPS benefits must re-register for TPS during the 60-day re-registration period from August 30, 2002 until October 29, 2002.

(4) To re-register, the applicant must file the following: (1) Form I-821, Application for Temporary Protected Status; (2) Form I-765, Application for Employment Authorization; and (3) two identification photographs (1½ inches by 1½ inches). There is no fee for a Form I-821 filed as part of the re-registration application. If the applicant requests employment authorization documentation, he or she must submit one hundred and twenty dollars ($120) or a properly documented fee waiver request, pursuant to 8 CFR 244.20, with the Form I-765. An applicant who does not request employment authorization documentation must nonetheless file Form I-765 along with Form I-821, but is not required to submit the fee. The fifty dollar ($50) fingerprint fee is required only for children beneficiaries of TPS who have reached the age of 14 but were not previously fingerprinted. Failure to re-register without good cause will result in the withdrawal of TPS. 8 CFR 244.17(c). Some persons who had not previously applied for TPS may be eligible for late initial registration under 8 CFR 244.2.

(5) Information concerning the Sudan TPS program will be available at local Service offices upon publication of this notice and the INS National Customer Service Center at 1-800-375-5283. This information will also be published on the INS Web site at http://www.ins.usdoj.gov.

Dated: August 26, 2002.
John Ashcroft,
Attorney General.

[FR Doc. 02-22211 Filed 8-29-02; 8:45 am]

BILLING CODE 4410-10-M